Executive Order 13612 of May 21, 2012

Providing an Order of Succession Within the Department of Agriculture

By the authority vested in me as President by the Constitution and the laws of the United States of America, including the Federal Vacancies Reform Act of 1998, as amended, 5 U.S.C. 3345 et seq. (the “Act”), it is hereby ordered that:

Section 1. Order of Succession. (a) Subject to the provisions of section 2 of this order, and to the limitations set forth in the Act, the following officials of the Department of Agriculture, in the order listed, shall act as and perform the functions and duties of the office of Secretary of Agriculture (Secretary) during any period in which both the Secretary and the Deputy Secretary of Agriculture (Deputy Secretary) have died, resigned, or are otherwise unable to perform the functions and duties of the office of Secretary:

(1) Under Secretary of Agriculture for Farm and Foreign Agricultural Services;

(2) Under Secretary of Agriculture for Food, Nutrition, and Consumer Services;

(3) Assistant Secretary of Agriculture for Administration;

(4) Under Secretary of Agriculture for Research, Education, and Economics;

(5) Under Secretary of Agriculture for Food Safety;

(6) Under Secretary of Agriculture for Natural Resources and Environment;

(7) Under Secretary of Agriculture for Rural Development;

(8) Under Secretary of Agriculture for Marketing and Regulatory Programs;

(9) General Counsel of the Department of Agriculture;

(10) Chief of Staff, Office of the Secretary;

(11) State Executive Directors of the Farm Service Agency for the States of California, Iowa, and Kansas, in order of seniority fixed by length of unbroken service as State Executive Director of that State;

(12) Regional Administrators of the Food and Nutrition Service for the Mountain Plains Regional Office (Denver, Colorado), Midwest Regional Office (Chicago, Illinois), and Western Regional Office (San Francisco, California), in order of seniority fixed by length of unbroken service as Regional Administrator of that Regional Office;

(13) Chief Financial Officer of the Department of Agriculture;

(14) Assistant Secretary of Agriculture (Civil Rights); and

(15) Assistant Secretary of Agriculture (Congressional Relations).

(b) If any two or more individuals designated in paragraph (11) or (12) of subsection (a) were sworn in to, or commenced service in, their respective offices on the same day, precedence shall be determined by the alphabetical order of the State in which the individual serves.

Sec. 2. Exceptions. (a) No individual who is serving in an office listed in section 1(a)(1)-(15) of this order in an acting capacity shall, by virtue of so serving, act as Secretary pursuant to this order.

(b) No individual who is serving in an office listed in section 1(a)(1)-(15) of this order shall act as Secretary unless that individual is otherwise eligible to so serve under the Federal Vacancies Reform Act of 1998.

(c) Notwithstanding the provisions of this order, the President retains discretion, to the extent permitted by law, to depart from this order in designating an acting Secretary.

Sec. 3. Revocation. Executive Order 13542 of May 13, 2010 (Providing an Order of Succession Within the Department of Agriculture), is hereby revoked.

Sec. 4. Judicial Review. This order is not intended to, and does not, create any right or benefit, substantive or procedural, enforceable at law or in equity by any party against the United States, its departments, agencies, or entities, its officers, employees, or agents, or any other person.

THE WHITE HOUSE,

May 21, 2012.

[FR Doc. 2012-12881

Filed 5-23-12; 11:15 am]

Billing code 3295-F2-P